DEPARTMENT OF TRANSPORTATION

Federal Aviation Administration

14 CFR Part 39

[Docket No. 2001-NM-285-AD; Amendment 39-13165; AD 2003-11-06]

RIN 2120-AA64

Airworthiness Directives; BAE Systems (Operations) Limited Model ATP Airplanes

AGENCY: Federal Aviation Administration, DOT.

ACTION: Final rule.

SUMMARY: This amendment adopts a new airworthiness directive (AD), applicable to all BAE Systems (Operations) Limited Model ATP airplanes, that requires a one-time inspection of the fuel pipes within the fuel “float switch” test pipelines in the left and right inner wings for evidence of damage, cracks, misalignment, or fuel leakage; follow-on corrective actions, if necessary; and repetitive replacement of the fuel pipes at regular intervals. This action is necessary to prevent fuel vapors from collecting in the dry bay of the wing torsion box and consequent risk of an explosion due to fuel leakage. This action is intended to address the identified unsafe condition.

DATES: Effective July 3, 2003.

The incorporation by reference of certain publications listed in the regulations is approved by the Director of the Federal Register as of July 3, 2003.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all BAE Systems (Operations) Limited Model ATP airplanes was published in the Federal Register on February 27, 2003 (68 FR 9032). That action proposed to require a one-time inspection of the fuel pipes within the fuel “float switch” test pipelines in the left and right inner wings for evidence of damage, cracks, misalignment, or fuel leakage; follow-on corrective actions, if necessary; and repetitive replacement of the fuel pipes at regular intervals.

Interested persons have been afforded an opportunity to participate in the making of this amendment. No comments were submitted in response to the proposed AD.

Conclusion

After careful review of the available data, the FAA has determined that air safety and the public interest require the adoption of the rule as proposed.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the proposed AD regarding that material.

Cost Impact

The FAA estimates that 3 airplanes of U.S. registry will be affected by this AD.

It will take approximately 6 work hours per airplane to accomplish the inspection, at an average labor rate of $60 per work hour. Based on these figures, the cost impact of the inspection on U.S. operators is estimated to be $1,080, or $360 per airplane.

It will take approximately 1 work hour per airplane to accomplish the records check, at an average labor rate of $60 per work hour. Based on these figures, the cost impact of the records check on U.S. operators is estimated to be $180, or $60 per airplane.

It will take approximately 5 work hours per airplane to accomplish the replacement, at an average labor rate of $60 per work hour. Required parts will be provided by the manufacturer at no cost to the operators. Based on these figures, the cost impact of the replacement on U.S. operators is estimated to be $900, or $300 per airplane, per replacement cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-11-06 BAE Systems (Operations) Limited (Formerly British Aerospace Regional Aircraft): Amendment 39-13165. Docket 2001-NM-285-AD.

Applicability: All Model ATP airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent fuel vapors from collecting in the dry bay of the wing torsion box and consequent risk of an explosion due to fuel leakage, accomplish the following:

Inspection and Records Check

(a) Within 90 days after the effective date of this AD, do the actions specified in paragraphs (a)(1) and (a)(2) of this AD.

(1) Do a general visual inspection of the fuel pipes within the fuel “float switch” test pipelines in the left and right inner wings for evidence of damage, cracks, misalignment, or fuel leakage; per BAE Systems (Operations) Limited Service Bulletin ATP-28-019, dated March 16, 2001.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(2) Perform a check of the airplane records to determine the actual time on the fuel pipes within the “float switch” test pipelines, per BAE Systems (Operations) Limited Service Bulletin ATP-28-020, dated January 25, 2002. This records check may be performed either by the cockpit flight crew or by certificated maintenance personnel.

Repetitive Replacement

(b) If no damage, crack, misalignment, or fuel leakage is found during the inspection required by paragraph (a)(1) of this AD, prior to further flight, reinstall the fuel pipes within the “float switch” test pipelines per BAE Systems (Operations) Limited Service Bulletin ATP-28-020, dated January 25, 2002. Thereafter, replace those pipes with new pipes at the applicable times specified in paragraph (b)(1) or (b)(2) of this AD per the service bulletin.

(1) For fuel pipes that, as of the effective date of this AD, have accumulated less than 10,000 total flight hours or 12,000 total landings since the date of installation on the airplane: Do the replacement prior to the accumulation of 10,000 total flight hours or 12,000 total landings on the pipes since the date of installation, or within 10 months after the effective date of this AD, whichever occurs latest. Thereafter, replace the fuel pipes with new pipes at intervals not to exceed 10,000 total flight hours or 12,000 total landings on the pipes, whichever occurs first. Replacement of the fuel pipes with serviceable pipes instead of new pipes is acceptable for compliance with the requirements of this paragraph, provided that: The total number of flight hours or total number of landings on those pipes can be verified, they have not accumulated 10,000 or more total flight hours or 12,000 or more total landings at the time of installation, and they are replaced prior to the accumulation of 10,000 total flight hours or 12,000 total landings (on the pipes).

(2) For fuel pipes that, as of the effective date of this AD, have accumulated 10,000 or more total flight hours or 12,000 or more total landings since the date of installation on the airplane: Do the replacement within 10 months after the effective date of this AD. Thereafter, replace the fuel pipes at intervals not to exceed 10,000 total flight hours or 12,000 total landings on the pipes, whichever occurs first. Replacement of the fuel pipes with serviceable pipes instead of new pipes is acceptable for compliance with the requirements of this paragraph, provided that: The total number of flight hours or total number of landings on those pipes can be verified, they have not accumulated 10,000 or more total flight hours or 12,000 or more total landings at the time of installation, and they are replaced prior to the accumulation of 10,000 total flight hours or 12,000 total landings (on the pipes).

(c) If any damage, crack, misalignment, or fuel leakage is found during the inspection required by paragraph (a)(1) of this AD, prior to further flight, replace the fuel pipes with new pipes, per BAE Systems (Operations) Limited Service Bulletin ATP-28-020, dated January 25, 2002. Before or upon the accumulation of 10,000 total flight hours or 12,000 total landings on the pipes, whichever occurs first, after the replacement required by this paragraph, replace the fuel pipes with new pipes. Thereafter, replace the fuel pipes at intervals not to exceed the accumulation of 10,000 total flight hours or 12,000 total landings on the pipes, whichever occurs first. Replacement of the fuel pipes with serviceable pipes instead of new pipes is acceptable for compliance with the requirements of this paragraph, provided that: The total number of flight hours or total number of landings on those pipes can be verified, they have not accumulated 10,000 or more total flight hours or 12,000 or more total landings at the time of installation, and they are replaced prior to the accumulation of 10,000 total flight hours or 12,000 total landings (on the pipes).

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) The actions must be done in accordance with BAE Systems (Operations) Limited Service Bulletin ATP-28-019, dated March 16, 2001; and BAE Systems (Operations) Limited Service Bulletin ATP-28-020, dated January 25, 2002. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Note 4: The subject of this AD is addressed in British airworthiness directives 003-03-2001 and 008-01-2002.

Effective Date

(g) This amendment becomes effective on July 3, 2003.

Issued in Renton, Washington, on May 20, 2003.
Ali Bahrami,
Acting Manager, Transport Airplane Directorate, Aircraft Certification Service.

[FR Doc. 03-13119 Filed 5-28-03; 8:45 am]

BILLING CODE 4910-13-P